DEPARTMENT OF AGRICULTURE

Agricultural Research Service

Notice of Intent To Grant Exclusive License

AGENCY: Agricultural Research Service, USDA.

ACTION: Notice of intent.

SUMMARY: Notice is hereby given that the U.S. Department of Agriculture, Forest Service, intends to grant to Cohesive Solutions, of Glendale, Arizona, an exclusive license to U.S. Patent No. 5,543,487, “Hydroxymethylated Resorcinol Coupling Agent and Method for Bonding Wood”, issued August 6, 1996. Notice of Availability for this invention for licensing was published in the Federal Register on October 24, 1994.

DATES: Comments must be received within thirty (30) calendar days of the date of publication of this notice in the Federal Register.

ADDRESSES: Send comments to: Patent Advisor, USDA Forest Service, One Gifford Pinchot Drive, Madison, Wisconsin 53705-2398.

FOR FURTHER INFORMATION CONTACT: Janet I. Stockhausen of the USDA Forest Service at the Madison address given above; telephone: 608-231-9502; fax: 608-231-9508; or email: jstockhausen@fs.fed.us.

SUPPLEMENTARY INFORMATION: The Federal Government's patent rights to this invention are assigned to the United States of America, as represented by the Secretary of Agriculture. It is in the public interest to so license this invention as Cohesive Solutions of Glendale, Arizona, has submitted a complete and sufficient application for a license. The prospective exclusive license will be royalty-bearing and will comply with the terms and conditions of 35 U.S.C. 209 and 37 CFR 404.7. The prospective exclusive license may be granted unless, within thirty (30) days from the date of this published Notice, the Forest Service receives written evidence and argument which establishes that the grant of the license would not be consistent with the requirements of 35 U.S.C. 209 and 37 CFR 404.7.

Michael D. Ruff,
Assistant Administrator.

[FR Doc. 03-10459 Filed 4-28-03; 8:45 am]

BILLING CODE 3410-03-P